DEPARTMENT OF COMMERCE

National Oceanic and Atmospheric Administration

RIN: 0648-XO89

North Pacific Fishery Management Council; Public Meeting

AGENCY: National Marine Fisheries Service (NMFS), National Oceanic and Atmospheric Administration (NOAA), Commerce.

ACTION: Notice of a public committee meeting.

SUMMARY: The North Pacific Fishery Management Council's (Council) Crab Plan Team will meet May 11, 12, 15, 2009. Additionally, a public workshop on Alaska Crab Stock Assessments will be held May 13-14.

DATES: The meetings will be held May 11-15, 2009.

ADDRESSES: The meetings will be held in the Traynor Room at the Alaska Fishery Science Center, 7600 Sand Point Way, NE, Bldg 4, Seattle, WA.

Council address: North Pacific Fishery Management Council, 605 W. 4th Ave., Suite 306, Anchorage, AK 99501-2252.

FOR FURTHER INFORMATION CONTACT: Diana Stram, North Pacific Fishery Management Council; telephone: (907) 271-2809.

SUPPLEMENTARY INFORMATION: The Crab Plan will begin Monday May 11 at 8:30 a.m. through Tuesday May 12. The Alaska Crab Stock Assessment Workshop will begin on May 13 at 8:30 a.m. and go through May 14. The Crab Plan team will reconvene Friday May 15 at 8:30 a.m.

The Plan Team agenda includes the following: Discussion and recommendations on groundfish catch accounting for crab stock assessments; Reanalysis of the Eastern Bering Sea bottom trawl survey results; Overview of crab stock assessment, stock status, over fishing levels (OFL), plans for Center for Independent Experts review, and proposed model-based assessment tier recommendations; Pribilof Island Blue King Crab rebuilding plan alternatives; Modification of the St Matthew Habitat Conservation area; Discard rates and PSC caps for groundfish and scallop fisheries. The agenda for the Crab Stock Assessment Workshop includes discussion and evaluation of all aspects of data, methodology, and alternative approaches for assessing crab stocks.

The agenda for both meeting will be posted at http://www.fakr.noaa.gov/npfmc/.

Special Accommodations

These meetings are physically accessible to people with disabilities. Requests for sign language interpretation or other auxiliary aids should be directed to Gail Bendixen, (907) 271-2809, at least 5 working days prior to the meeting date.

Dated: April 22, 2009.
Tracey L. Thompson,
Acting Director, Office of Sustainable Fisheries, National Marine Fisheries Service.

[FR Doc. E9-9496 Filed 4-24-09; 8:45 am]

BILLING CODE 3510-22-S